Proclamation 9358 of October 29, 2015

Military Family Month, 2015

By the President of the United States of America

A Proclamation

Since our country's founding, brave members of our military have stood strong as one American team, ready to defend our homeland and safeguard the values for which we stand. They represent the best our Nation has to offer, and serving alongside them are proud and loving family members—heroes on the home front. Each day, they make sacrifices for their loved ones and their country. They have answered their call of duty, and as a Nation, we must answer ours and serve them as well as they have served us. During Military Family Month, we pay tribute to and thank our military families for their service to our country, and we recognize the extraordinary ways in which they give of themselves for us all.

Our troops keep our Nation safe from threats here at home and around the world, and our journey forward is not sustained by those in uniform alone. The United States is stronger and safer thanks to the millions of military family members who, in sacrificing cherished moments with their loved ones, selflessly afford us precious time with ours. Demonstrating the highest form of patriotism and persevering in the most demanding of circumstances, some endure hard separations throughout multiple deployments. Spouses press pause on their careers or strive to balance work and family while their loved ones are away. The two million children of service members work hard to keep up their studies and make new friends, despite transferring school systems an average of 6 to 9 times. And following the homecoming ceremonies and celebrations, family and friends stand beside our veterans, encouraging and uplifting them as they face the challenges of transitioning back into civilian life.

My Administration is committed to translating our Nation's gratitude into sustainable, meaningful support. This year, we continued the work of providing our military families with tools and resources such as relocation assistance, child care, and counseling services that help families while their loved ones are serving. Additionally, through the Joining Forces initiative, First Lady Michelle Obama and Dr. Jill Biden have made tremendous strides in connecting military spouses with employment opportunities. Since Joining Forces was launched in 2011, over 850,000 veterans and military spouses have secured gainful employment thanks to the initiative. All 50 States have now responded to the First Lady and Dr. Biden's call to action to take steps to streamline ways for service members and veterans to obtain civilian credentials and licensure in their States. These collaborative efforts have dramatically lowered veteran unemployment and have helped inspire military families to continue pursuing their dreams and reaching for their highest aspirations.

America endures because of the men, women, and families who serve and sacrifice to defend our Nation and protect the ideals we hold dear. This month, and in the months to come, let us show our enduring gratitude to military families and their loved ones in uniform for contributing to our Nation's legacy as a beacon of hope and liberty. Their courage serves as a model of character and distinction, and their devotion to our country must be met with the recognition it deserves.

NOW, THEREFORE, I, BARACK OBAMA, President of the United States of America, by virtue of the authority vested in me by the Constitution and the laws of the United States, do hereby proclaim November 2015 as Military Family Month. I encourage all Americans to honor military families through private actions and public service for the tremendous contributions they make in support of our service members and our Nation.

IN WITNESS WHEREOF, I have hereunto set my hand this twenty-ninth day of October, in the year of our Lord two thousand fifteen, and of the Independence of the United States of America the two hundred and fortieth.

[FR Doc. 2015-28246

Filed 11-2-15; 12:30 pm]

Billing code 3295-F6-P